DEPARTMENT OF ENERGY

Federal Energy Regulatory Commission

[Docket No. CP24-494-000]

Black Bayou Gas Storage, LLC; Notice of Schedule for the Preparation of an Environmental Assessment for the Black Bayou Gas Storage Project

On July 17, 2024, Black Bayou Gas Storage, LLC filed an application in Docket No. CP24-494-000 requesting a Certificate of Public Convenience and Necessity pursuant to section 7(c) of the Natural Gas Act to construct and operate certain natural gas pipeline and storage facilities in Cameron Parish and Calcasieu Parish, Louisiana. The proposed project is known as the Black Bayou Gas Storage Project (Project), and would create four salt storage caverns, with a total working gas capacity of 34.7 billion cubic feet (Bcf), 1.6 Bcf of peak daily natural gas injection capability, and 2.0 Bcf of peak daily natural gas deliverability, with an ability to cycle between injection and withdrawal services on short notice.

On July 31, 2024, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹ The EA will be issued for a 30-day comment period.

¹ In accordance with the Council on Environmental Quality's regulations, the unique identification number for documents relating to this environmental review is EAXX-019-20-000-1726746869. 40 CFR 1501.5(c)(4) (2024).

Schedule for Environmental Review

Issuance of EA February 14, 2025

90-day Federal Authorization Decision Deadline ² May 15, 2025

² The Commission's deadline applies to the decisions of other Federal agencies, and state agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

The Project would include the following facilities in Cameron and Calcasieu Parishes, Louisiana:

• four underground salt dome natural gas storage caverns;

• a central operations site inside the natural gas storage area, to include:

○ a 44,000-horsepower natural gas-powered reciprocating compressor station;

○ a brine leaching plant;

○ an electrical supply facility;

• nine freshwater wells;

• nine saltwater disposal wells on three pads;

• associated freshwater and brine piping and valve settings;

• two 27.1-mile-long, 24-inch-diameter, looped bi-directional header pipelines; ³

³ A pipeline loop is a segment of pipe constructed parallel to an existing pipeline to increase capacity.

• ten metering and regulation stations;

• five mainline valve sites; and

• permanent and temporary access roads.

Background

On August 28, 2024, the Commission issued a “Notice of Scoping Period Requesting Comments on Environmental Issues for the Proposed Black Bayou Gas Storage Project and Notice of Public Scoping Session” (Notice of Scoping). The Notice of Scoping was sent to affected landowners; Federal, State, and local government agencies; elected officials; environmental and public interest groups; Native American tribes; other interested parties; and local libraries and newspapers. In response to the Notice of Scoping, the Commission received comments from the Sierra Club, Fishermen Involved in Sustaining our Heritage (FISH), For a Better Bayou, Habitat Recovery Project, Healthy Gulf, Micah Six Eight Mission, Vessel Project of Louisiana, Restore Explicit Symmetry To Our Ravaged Earth (RESTORE), Louisiana Oil & Gas Association, Teamsters National Pipeline Labor Management Cooperation Trust, The Laborers' International Union of North America, Cameron Parish Police Jury, and Black Bayou Land Company, LLC. The primary issues raised by the commenters are impacts on fisheries, surface and groundwater pollution, pollution that will deter engagement in outdoor activities, air pollution, visual impacts, noise, traffic, destabilization of salt domes, positive and negatives economic impacts, and cumulative impacts on public health. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-494), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 2, 2024.
Debbie-Anne A. Reese,
Acting Secretary.

[FR Doc. 2024-23303 Filed 10-8-24; 8:45 am]

BILLING CODE 6717-01-P